DEPARTMENT OF ENERGY

Federal Energy Regulatory Commission

[Project No. 5261-023]

Green Mountain Power Corporation; Notice Soliciting Scoping Comments

Take notice that the following hydroelectric application has been filed with the Commission and is available for public inspection.

a. Type of Application: Subsequent Minor License.

b. Project No.: 5261-023.

c. Date Filed: August 27, 2021.

d. Applicant: Green Mountain Power Corporation.

e. Name of Project: Newbury Hydroelectric Project.

f. Location: On the Wells River, in the town of Newbury, Orange County, Vermont. The project does not occupy any federal land.

g. Filed Pursuant to: Federal Power Act, 16 U.S.C. 791(a)-825(r).

h. Applicant Contact: John Greenan, Green Mountain Power Corporation, 2152 Post Road, Rutland, VT 05701; Phone at (802) 770-2195, or email at John.Greenan@greenmountainpower.com.

i. FERC Contact: Adam Peer at (202) 502-8449, or adam.peer@ferc.gov.

j. Deadline for filing scoping comments: January 7, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Newbury Hydroelectric Project (P-5261-023).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The Newbury Project consists of: (1) An 11.4-acre impoundment at a normal water surface elevation of 463.9 feet mean sea level; (2) a 26-foot-high by 90-foot-long concrete gravity dam that includes a 73.3-foot-long spillway topped with 5-foot-high pneumatic crest gates; (3) a seasonally installed, 8-foot-long by 4-foot-wide steel sluice box on the south side of the spillway to provide downstream fish passage; (4) an 11.2-foot-wide, 9-foot-long intake structure that includes trash racks with 1-inch clear bar spacing, connected to a 5-foot-diameter, 435-foot-long underground steel penstock; (5) a powerhouse area containing a single 315-kilowatt turbine-generator unit; (6) a second 50-kilowatt turbine-generator unit located outside of the powerhouse area approximately 75-feet downstream of the dam along the bypassed reach; (7) a 125-foot-long tailrace; (8) three 150-foot-long generator leads that create a 480 Volt, 3 phase 150-foot-long underground transmission line connected to three pole mounted 167 kilovolt-ampere step-up transformers; and (9) appurtenant facilities. The project creates a 590-foot-long bypassed reach of the Wells River.

The current license requires Green Mountain Power Corporation to: (1) Operate the project in run-of-river mode; (2) release a continuous bypassed reach minimum flow of 50 cubic feet per second (cfs) from April 15 to June 10 and 25 cfs during the remainder of the year; and (3) release a year-round, continuous aesthetic flow of 5 cfs over the dam. The average annual generation of the project is approximately 882 megawatt-hours.

Green Mountain Power Corporation proposes to: (1) Continue operating the project in run-of-river mode; (2) release new bypassed reach minimum flows of 35 cfs from May 15 to October 15 and 30 cfs from October 16 to May 14; (3) release an aesthetic flow of 10 cfs over the dam from May 15 to October 15 during daytime hours and no aesthetic flow the remainder of the year; and (4) construct a hand-carry access area at the head of the project impoundment for recreational boaters.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. At this time, we do not anticipate holding on-site scoping meetings. Instead, we are soliciting written comments and suggestions on the preliminary list of issues and alternatives to be addressed in the NEPA document, as described in scoping document 1 (SD1), issued December 8, 2021.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: December 8, 2021.
Debbie-Anne A. Reese,
Deputy Secretary.

[FR Doc. 2021-27067 Filed 12-14-21; 8:45 am]

BILLING CODE 6717-01-P